INTERNATIONAL TRADE COMMISSION

[USITC SE-23-055]

Sunshine Act Meetings

Agency Holding the Meeting: United States International Trade Commission.

TIME AND DATE: November 30, 2023 at 11 a.m.

PLACE: Room 101, 500 E Street SW, Washington, DC 20436, Telephone: (202) 205-2000.

STATUS: Open to the public.

MATTERS TO BE CONSIDERED:

1. Agendas for future meetings: none.

2. Minutes.

3. Ratification List.

4. Commission vote on Inv. No. 731-TA-1658 (Preliminary) (Truck and Bus Tires from Thailand). The Commission currently is scheduled to complete and file its determinations on December 1, 2023; views of the Commission currently are scheduled to be completed and filed on December 8, 2023.

5. Commission vote on Inv. Nos. 701-TA-566 and 731-TA-1342 (Review) (Softwood Lumber Products from Canada). The Commission currently is scheduled to complete and file its determinations and views of the Commission on December 20, 2023.

6. Outstanding action jackets: none.

CONTACT PERSON FOR MORE INFORMATION: Sharon Bellamy, Supervisory Hearings and Information Officer, 202-205-2000.

The Commission is holding the meeting under the Government in the Sunshine Act, 5 U.S.C. 552(b). In accordance with Commission policy, subject matter listed above, not disposed of at the scheduled meeting, may be carried over to the agenda of the following meeting.

By order of the Commission.
Issued: November 20, 2023.
Lisa Barton,
Secretary to the Commission.

[FR Doc. 2023-26001 Filed 11-20-23; 4:15 pm]

BILLING CODE 7020-02-P